SECURITIES AND EXCHANGE COMMISSION

Proposed Collection; Comment Request

Upon written request, copies available from: Securities and Exchange Commission, Office of Filings and Information Services, Washington, DC 20549.

Extension: Regulations 13D and 13G; Schedules 13D and 13G, OMB Control No. 3235-0145, SEC File No. 270-137.

Notice is hereby given that pursuant to the Paperwork Reduction Act of 1995 (44 U.S.C. 3501 et seq.), the Securities and Exchange Commission (“Commission”) is soliciting comments on the collection of information summarized below. The Commission plans to submit this existing collection of information to the office of Management and Budget for extension and approval.

Schedules 13D and 13G are filed pursuant to sections 13(d) and 13(g) of the Securities Exchange Act and Regulations 13D and 13G thereunder to report beneficial ownership of equity securities registered under section 12 of the Exchange Act. Regulations 13D and 13G provide investors and subject issuers with information about accumulations of securities that may have the potential to change or influence control of the issuer. Schedules 13D and 13G are used by persons, including small entities, to report their ownership of more than 5% of a class of equity securities registered under section 12. We estimate that it takes approximately 43,500 total burden hours to prepare a Schedule 13D and that it is filed by approximately 3,000 respondents. The respondent prepares 25% of the 43,500 annual burden hours for a total reporting burden of 10,875 hours. Schedule 13G takes approximately 98,800 total burden hours to prepare and is filed by an estimated 9,500 respondents. The respondent prepares 25% of the 98,800 annual burden hours for a total reporting burden of 24,700 hours.

Written comments are invited on: (a) Whether this proposed collection of information is necessary for the proper performance of the functions of the agency, including whether the information will have practical utility; (b) the accuracy of the agency's estimate of burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 100 F Street, NE., Washington, DC 20549.

Dated: August 1, 2005.
J. Lynn Taylor,
Assistant Secretary.

[FR Doc. E5-4308 Filed 8-9-05; 8:45 am]

BILLING CODE 8010-01-P